DEPARTMENT OF HOMELAND SECURITY

Federal Emergency Management Agency

[Docket ID FEMA-2022-0024; OMB No. 1660-0085]

Agency Information Collection Activities: Submission for OMB Review; Comment Request; Crisis Counseling Assistance and Training Program

AGENCY: Federal Emergency Management Agency, Department of Homeland Security.

ACTION: 30-Day notice of revision and request for comments.

SUMMARY: The Federal Emergency Management Agency (FEMA) will submit the information collection abstracted below to the Office of Management and Budget for review and clearance in accordance with the requirements of the Paperwork Reduction Act of 1995. This notice seeks comments concerning the Crisis Counseling Assistance and Training Program, which provides Federal funding in response to a state or Federally recognized Tribe's request for Crisis Counseling services for a Presidentially declared major disaster.

DATES: Comments must be submitted on or before December 28, 2022.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Requests for additional information or copies of the information collection should be made to Director, Information Management Division, 500 C Street SW, Washington, DC 20472, email address FEMA-Information-Collections-Management@fema.dhs.gov or Ani Brown, EM Specialist, Recovery/Individual Assistance/Community Services at Tammya.Brown@fema.dhs.gov or (202) 735-4047.

SUPPLEMENTARY INFORMATION: Section 416 of the Robert T. Stafford Disaster Relief and Emergency Assistance Act, (Pub. L. 93-288, as amended and codified at 42 U.S.C. 5183) (“Act”), authorizes the President to provide professional counseling services, including financial assistance to states (which includes the fifty states, the District of Columbia, and the U.S. territories), Federally recognized Indian Tribal governments, local agencies or private mental health organizations for professional counseling services, to survivors of major disasters to relieve mental health problems caused or aggravated by a major disaster or its aftermath. The implementing regulations for Section 416 of the Stafford Act are at 44 CFR 206.171. Under 44 CFR 206.171 and by agreement, the U.S. Department of Health and Human Services-Center for Mental Health Services (HHS-CMHS), which has expertise in crisis counseling, coordinates with FEMA in administering the Crisis Counseling Assistance and Training Program (CCP). FEMA and HHS-CMHS provide program oversight, technical assistance, and training to States and Federally recognized Tribes applying for CCP funding for major disasters.

FEMA is proposing to revise the collection by rewording the sub-question from question 8 on the Crisis Counseling Assistance and Training Program (CCP), Immediate Services Program (ISP) Application, FEMA Form FF-104-FY-21-148 (formerly 003-0-1) and from question 12 on the Crisis Counseling Assistance and Training Program, Regular Services Program (RSP) Application, FEMA Form FF-104-FY-21-149 (formerly 003-0-2). The rewording of these sub-questions will allow for greater transparency of plans to ensure accessibility to all eligible survivors.

This proposed information collection previously published in the Federal Register on August 24, 2022, at 87 FR 52018 with a 60 day public comment period. FEMA received four comments. One comment agreed with the changes being made and three comments were not germane to this collection. The purpose of this notice is to notify the public that FEMA will submit the information collection abstracted below to the Office of Management and Budget for review and clearance.

Collection of Information

Title: Crisis Counseling Assistance and Training Program.

Type of Information Collection: Revision of a currently approved information collection.

OMB Number: 1660-0085.

FEMA Forms: FEMA Form FF-104-FY-21-148 (formerly 003-0-1), Crisis Counseling Assistance and Training Program, Immediate Services Program Application; FEMA Form FF-104-FY-21-149 (formerly 003-0-2), Crisis Counseling Assistance and Training Program, Regular Services Program Application; ISP Final Report Narrative; Quarterly Report Narratives; and Final RSP Report Narrative.

Abstract: The Crisis Counseling Assistance and Training Program (CCP) consists of two grant programs, the Immediate Services Program (ISP) and the Regular Services Program (RSP). The ISP and RSP provide supplemental funding to states and Federally recognized Tribes following a Presidentially declared major disaster under the Stafford Act. These grant programs provide funding for training and services, including community outreach, public education, and counseling techniques. States and Federally recognized Tribes are required to submit an application that provides information on Needs Assessment, Plan of Service, Program Management, and an accompanying Budget.

Affected Public: State, local or Tribal Government.

Estimated Number of Respondents: 90.

Estimated Number of Responses: 108.

Estimated Total Annual Burden Hours: 1,728.

Estimated Total Annual Respondent Cost: $141,334.

Estimated Respondents' Operation and Maintenance Costs: $0.

Estimated Respondents' Capital and Start-Up Costs: $0.

Estimated Total Annual Cost to the Federal Government: $156,729.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Millicent Brown Wilson,
Records Management Branch Chief, Office of the Chief Administrative Officer, Mission Support, Federal Emergency Management Agency, Department of Homeland Security.

[FR Doc. 2022-25898 Filed 11-25-22; 8:45 am]

BILLING CODE 9111-24-P